DEPARTMENT OF ENERGY

Federal Energy Regulatory Commission

[Project No. 2100-185—California]

Notice of Availability of Draft Environmental Assessment: California Department of Water Resources

In accordance with the National Environmental Policy Act of 1969 and the Federal Energy Regulatory Commission's (Commission or FERC's) regulations, 18 Code of Federal Regulations (CFR) Part 380, the Office of Energy Projects has reviewed an application filed by the California Department of Water Resources (California DWR), licensee for the Feather River Hydroelectric Project, to repair the Oroville Dam main spillway, modify the existing emergency spillway, and relocate a buried transmission line. The specifications for the proposal were filed with the Commission on January 29, 2018, and supplemented with additional supporting information on February 13, July 16, and August 1, 2018. The project is located on the Feather River in Butte County, California.

California DWR proposes to repair and reconstruct the Lake Oroville main spillway as a result of the failure of the main spillway beginning on February 7, 2017. California DWR also proposes to fortify the existing emergency spillway located adjacent to the main spillway and to relocate a buried transmission line near the Hyatt Power Plant. The proposed work would take place over two years, with major portions of the work at the main spillway completed on an expedited basis prior to the commencement of the normal wet season on November 1, 2017. The remainder of the work would be completed by January 2019. Staff prepared a draft environmental assessment (EA), which analyzes the potential environmental effects associated with the reconstruction and modification of project structures. The draft EA also discusses the environmental effects of California DWR's response to the spillway failure and concludes that California DWR's proposed activities, with specified environmental protection measures, would not constitute a major federal action that would significantly affect the quality of the human environment.

A copy of the draft EA is available for review at the Commission's Public Reference Room or it may be viewed on the Commission's website at www.ferc.gov using the eLibrary link. Enter the docket number P-2100 in the docket number field to access the document. For assistance, contact FERC Online Support at FERCOnlineSupport@ferc.gov or toll-free at 1-866-208-3676, or for TTY, 202-502-8659. All comments must be filed by December 10, 2018.

The Commission strongly encourages electronic filing. Please file comments using the Commission's eFiling system at http://www.ferc.gov/docs-filing/efiling.asp. Commenters can also submit brief comments up to 6,000 characters, without prior registration, using the eComment system at http://www.ferc.gov/docs-filing/ecomment.asp. You must include your name and contact information at the end of your comments. For assistance, please contact FERC Online Support. In lieu of electronic filing, please send a paper copy to: Secretary, Federal Energy Regulatory Commission, 888 First Street NE, Washington, DC 20426. The first page of any filing should include docket number P-2100-185.

For further information, contact Mr. John Aedo at (415) 369-3335 or by email at john.aedo@ferc.gov.

Dated: November 8, 2018.
Kimberly D. Bose,
Secretary.

[FR Doc. 2018-24885 Filed 11-14-18; 8:45 am]

BILLING CODE 6717-01-P